DEPARTMENT OF HEALTH AND HUMAN SERVICES

Administration for Children and Families

Proposed Information Collection Activity; Comment Request

Proposed Projects:

Title: National Medical Support Notice—NPRM.

OMB No.: 0970-0222.

Description: The information collected by State IV-D Child Support Enforcement agencies is used to complete the National Medical Support Notice NMSN), which is sent to employers of employee/obligors and used as a means of enforcing the healthcare coverage provision in a child support order. Primarily, the information the State Child Support enforcement agencies use to complete the NMSN is information regarding appropriate persons, which is necessary for the enrollment of the child in employment-related health care coverage, such as the employee/obligors name, address, and Social Security Number; the employers name and address; the name and address of the alternate recipient (child); and the custodial parents name and address. The employer forwards the second part of the NMSN to the group health plan administrator, which contains the same individual identifying information. The plan administrator requires this information to determine whether to enroll the alternate recipient in the group health plan. If necessary, the employer also initiates withholding from the employees wages for the purpose of paying premiums to the group health plan for enrollment of the child.

Respondents: State and Territory agencies administering the child Support Enforcement program.

Annual Burden Estimates
Instrument | Number of respondents | Number of responses per respondent | Average burden hours per response | Total burden hours
National Medical Support Notice | 54 | 97,775 | 0.17 | 897,574.50

Estimated Total Annual Burden Hours: 897,574.50.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 23, 2010.
Robert Sargis,
Reports Clearance Officer.

[FR Doc. 2010-15636 Filed 6-25-10; 8:45 am]

BILLING CODE 4184-01-P